ENVIRONMENTAL PROTECTION AGENCY

[FRL-9612-4]

Notice of Proposed Administrative Settlement Pursuant to the Comprehensive Environmental Response, Compensation, and Liability Act, As Amended by the Superfund Amendments and Reauthorization Act

AGENCY: Environmental Protection Agency.

ACTION: Notice; Request for public comment.

SUMMARY: In accordance with Section 122(i) of the Comprehensive Environmental Response, Compensation, and Liability Act, as amended by the Superfund Amendments and Reauthorization Act (“CERCLA”), notice is hereby given that a proposed administrative cost recovery settlement concerning the Abbott Mine/Turkey Run Mine Superfund Site (Site) in Lake County, California was executed by the Agency on November 14, 2011. The proposed settlement resolves an EPA claim under Section 107 of CERCLA against Respondent, El Paso Merchant Energy—Petroleum Company. The proposed settlement was entered into under the authority granted EPA in Section 122(h) of CERCLA, and requires the Respondent to pay $237,878.07 to the Hazardous Substances Superfund in settlement of past costs. For thirty (30) days following the date of publication of this notice, the Agency will receive written comments relating to the settlement. The Agency's response to any comments received will be available for public inspection at: U.S. Environmental Protection Agency, Superfund Records Center, 95 Hawthorne Street, Suite 403S, San Francisco, CA 94105, Phone (415) 536-2000.

DATES: Comments must be submitted on or before January 30, 2012.

ADDRESSES: The proposed settlement as set forth in the Administrative Agreement for Recovery of Past Response Costs, Docket No. 2011-13 is available for public inspection at the U.S. Environmental Protection Agency at U.S. Environmental Protection Agency, Superfund Records Center, 95 Hawthorne Street, Suite 403S, San Francisco, CA 94105, Phone (415) 536-2000. A copy of the Administrative Settlement Agreement for Recovery of Past Costs may be obtained from the U.S. Environmental Protection Agency Region IX, Superfund Records Center at the above address. Comments regarding the proposed settlement should be addressed to Larry Bradfish at the address below, and should reference the Abbott Mine/Turkey Run Mine Site located in Lake County, California (EPA Docket No. 2011-13).

FOR FURTHER INFORMATION CONTACT: Larry Bradfish, Assistant Regional Counsel, Office of Regional Counsel (ORC-3), U.S. Environmental Protection Agency Region IX, 75 Hawthorne Street, San Francisco, CA 94105, Phone (415) 972-3934, E-Mail: bradfish.larry@epa.gov.

Dated: December 7, 2011.
Dustin Minor,
Acting Director, Superfund Division.

[FR Doc. 2011-33454 Filed 12-28-11; 8:45 am]

BILLING CODE 6560-50-P